DEPARTMENT OF HEALTH AND HUMAN SERVICES

Health Resources and Services Administration

Cooperative Agreement for Poison Prevention Education; CFDA #93.253

AGENCY: Health Resources and Services Administration (HRSA), HHS.

ACTION: Notice of Single Source Award.

SUMMARY: HRSA will be enhancing the partnership with the Home Safety Council (HSC) to collaborate on reaching America's low literacy population. Through this project, additional poison prevention training materials targeting the low literacy population will be developed and distributed to the public, poison centers, safety and injury prevention professionals, health educators, and first responders. HRSA first announced the partnership with the HSC in the Federal Register, Vol. 71, No. 146, July 31, 2006.

FOR FURTHER INFORMATION CONTACT: Lori Roche, Director, Poison Control Program, Healthcare Systems Bureau, Room 11C-06, 5600 Fishers Lane, Rockville, MD 20857; Telephone: 301-443-0652; E-mail: lroche@hrsa.gov.

SUPPLEMENTARY INFORMATION: Intended Recipient of the Award: Home Safety Council.

Amount of the Award: $75,000.

Authority: Section 1271 et seq. of the Public Health Service Act, 42 U.S.C. 300d-71 et seq. as amended by the Poison Center Stabilization and Enhancement Grant Program.

Project Period: The period of the award is from September 1, 2007, through April 1, 2008.

Justification for the Exception to Competition

This project will be implemented through a single source cooperative agreement because the HSC is uniquely positioned to immediately undertake and complete the activities within the seven month time frame. HSC is currently developing low literacy poison prevention materials, and this project will enhance the existing package of materials. The HSC has existing organizational knowledge and experience in developing materials for the low literacy population through its Home Safety Literacy Project, of which this project will be a component. The HSC has an existing relationship with key stakeholders in place for reaching this vulnerable population, and the HSC project director has extensive expertise in poison prevention education.

Dated: October 26, 2007.
Dennis P. Williams,
Deputy Administrator.

[FR Doc. E7-21677 Filed 11-2-07; 8:45 am]

BILLING CODE 4165-15-P